INTERNATIONAL TRADE COMMISSION

[USITC SE-06-020]

Sunshine Act Meeting

Agency Holding the Meeting: United States International Trade Commission.

Time and Date: April 4, 2006 at 11 a.m.

Place: Room 101, 500 E Street SW., Washington, DC 20436, Telephone: (202) 205-2000.

Status: Open to the public.

Matters To Be Considered:

1. Agenda for future meetings: None.

2. Minutes.

3. Ratification List.

4. Inv. Nos. 701-TA-318 and 731-TA-538 and 561 (Second Review) (Sulfanilic Acid from China and India)—briefing and vote. (The Commission is currently scheduled to transmit its determination and Commissioners' opinions to the Secretary of Commerce on or before April 21, 2006.) See INV-DD-026 and GC-DD-035.

5. Outstanding action jackets:

1. Document No. ER-06-001: Approval of revised “Summary of Statutory Provisions Related to Import Relief.”

2. Document No. GC-06-020: Final disposition of investigation in Inv. No. 337-TA-519 (Certain Personal Computers, Monitors, and Components Thereof).

3. Document No. GC-06-021: Whether to review an enforcement initial determination (“EID”) and initial advisory opinion (“IAO”); and disposition of complainant's motion to clarify the existing cease and desist order and to require the posting of a bond in Inv. No. 337-TA-503 (Certain Automated Mechanical Transmission Systems for Medium-Duty and Heavy-Duty Trucks, and Components Thereof).

4. Document No. GC-06-034: Whether to grant joint motions to terminate the investigation as to all respondents on the basis of settlement agreements; whether to vacate the presiding administrative law judge's final initial determination; and whether to grant a petition for reconsideration in Inv. No. 337-TA-523 (Certain Optical Disk Controller Chips and Chipsets and Products Containing Same, Including DVD Players and PC Optical Storage Devices II).

In accordance with Commission policy, subject matter listed above, not disposed of at the scheduled meeting, may be carried over to the agenda of the following meeting.

Issued: March 23, 2006.
By order of the Commission.
Marilyn R. Abbott,
Secretary to the Commission.

[FR Doc. 06-3052 Filed 3-24-06; 3:25 pm]

BILLING CODE 7020-02-P